ENVIRONMENTAL PROTECTION AGENCY

[EPA-HQ-OECA-2013-0325; FRL—10011-66-OMS]

Information Collection Request Submitted to OMB for Review and Approval; Comment Request; NESHAP for Benzene Emissions From Benzene Storage Vessels and Coke Oven By-Product Recovery Plants (Renewal)

AGENCY: Environmental Protection Agency (EPA).

ACTION: Notice.

SUMMARY: The Environmental Protection Agency (EPA) has submitted an information collection request (ICR), NESHAP for Benzene Emissions from Benzene Storage Vessels and Coke Oven By-Product Recovery Plants (EPA ICR Number 1080.16, OMB Control Number 2060-0185), to the Office of Management and Budget (OMB) for review and approval in accordance with the Paperwork Reduction Act. This is a proposed extension of the ICR, which is currently approved through August 31, 2020. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 29, 2020.

ADDRESSES: Submit your comments, referencing Docket ID Number EPA-HQ-OECA-2013-0325, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 02-566-1744. For additional information about EPA's public docket, visit: http://www.epa.gov/dockets.

Abstract: The NESHAP for Coke Oven By-Product Recovery Plants (40 CFR part 61, subpart L) were promulgated on September 14, 1989 (54 FR 38073) and amended on February 12, 1999 (64 FR 7458). These regulations apply to each of the following benzene emission sources at furnace and foundry coke by-product recovery plants: Tar decanters, tar storage tanks, tar-intercepting sumps, flushing-liquor circulation tanks, light-oil sumps, light-oil condensers, light-oil decanters, wash-oil decanters, wash-oil circulation tanks, naphthalene processing, final coolers, final-cooler cooling towers, and equipment intended to operate in benzene service, including: Pumps, valves, exhausters, pressure relief devices, sampling connection systems, open-ended valves or lines, flanges or other connectors, and other control devices or systems. The provisions of this subpart also apply to benzene storage tanks, BTX (benzene-toluene-xylene) storage tanks, light-oil storage tanks, and excess ammonia-liquor storage tanks at furnace coke by-product recovery plants. This information is being collected to assure compliance with 40 CFR part 61, subpart L.

The NESHAP for Benzene Emissions from Benzene Storage Vessels (40 CFR part 61, subpart Y) were promulgated on September 14, 1989 (54 FR 38077) and amended on December 14, 2000 (65 FR 78268). These standards apply to each benzene storage vessel with a design storage capacity greater than or equal to 38 cubic meters (10,000 gallons). This subpart does not apply to: (1) Storage vessels used for storing benzene at coke by-product facilities; (2) vessels permanently attached to motor vehicles—such as trucks, rail cars, barges or ships; and (3) pressure vessels designed to operate in excess of 204.9 kPa (29.72 psia) and without emissions to the atmosphere. This information is being collected to assure compliance with 40 CFR part 61, subpart Y.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Owners or operators of benzene storage vessels and coke oven by-product recovery plants.

Respondent's obligation to respond: Mandatory (40 CFR part 41, subparts L and Y).

Estimated number of respondents: 13 (total).

Frequency of response: Occasionally, semiannually, and annually.

Total estimated burden: 1,730 hours (per year). Burden is defined at 5 CFR 1320.3(b).

Total estimated cost: $201,000 (per year), which includes $0 in annualized capital/startup and/or operation & maintenance costs.

Changes in the Estimates: There is an adjustment decrease in the total estimated burden as currently identified in the OMB Inventory of Approved Burdens. This increase is not due to any program changes. Based on consultations with industry, the number of coke plants subject to Subpart L has been revised since the previous ICR, while the number of facilities subject to Subpart Y remains unchanged. The number of coke plants subject to Subpart L reflects a decrease in the number of operating coke by-product recovery plants. This change results in a decrease in both burden hours and the number of responses.

Courtney Kerwin,
Director, Regulatory Support Division.

[FR Doc. 2020-13892 Filed 6-26-20; 8:45 am]

BILLING CODE 6560-50-P